DEPARTMENT OF HEALTH AND HUMAN SERVICES

Health Care Financing Administration

[HCFA-9007-N]

Notice of Change of Address for the Provider Reimbursement Review Board, the Medicare Geographic Classification Review Board, the Health Care Financing Administration Hearing Officer, and the Office of Hearings

AGENCY: Health Care Financing Administration (HCFA), HHS.

ACTION: Notice of change of address.

SUMMARY: This notice announces that the Provider Reimbursement Review Board, the Medicare Geographic Classification Review Board, the Health Care Financing Administration Hearing Officer, and the Office of Hearings, Office of Internal Customer Support, Health Care Financing Administration, Department of Health and Human Services will vacate their offices at 7500 Security Boulevard, Baltimore, MD 21244 and relocate to new offices.

DATES: The new address will be effective on May 21, 2001.

ADDRESSES: The new address will be 2520 Lord Baltimore Drive, Suite L, Baltimore, MD 21244-2670.

FOR FURTHER INFORMATION CONTACT: Steven Kirsh, (410) 786-2053.

SUPPLEMENTARY INFORMATION: The Office of Hearings provides support services for both the Medicare Geographic Classification Review Board (MGCRB) and the Provider Reimbursement Review Board (PRRB) and, as appropriate, conducts reviews and hearings and issues the decisions of the Health Care Financing Administration (HCFA) Hearing Officer. The Office of Hearings receives all PRRB appeals, all MGCRB applications for reclassification, and any correspondence directed to the PRRB and MGCRB, and provides other administrative services for these boards.

Effective May 21, 2001, the address for the Provider Reimbursement Review Board, the Medicare Geographic Classification Review Board, the HCFA Hearing Officer, and the Office of Hearings will be 2520 Lord Baltimore Drive, Suite L, Baltimore, MD 21244-2670. This address must be used for all mail, courier, and hand deliveries. The post office boxes for both boards will no longer be used as of the effective date of the move. All PRRB appeals and all MGCRB reclassification applications and withdrawal requests and all other correspondence with the PRRB, MGRB, HCFA Hearing Officer, and Office of Hearings must be sent to the new address on the effective date of the change of address. Anything sent to the old addresses after the effective date of the move will be delayed, which may result in the document not being filed timely.

All hearings previously scheduled to be held at the old location on or after May 21, 2001 will be held at the new location. The main telephone number (410-786-2671), the FAX number (410-786-5298), and the individual telephone numbers for the PRRB, the MGCRB, the Hearing Officer, and the Office of Hearings will not change.

(Catalog of Federal Domestic Assistance Program No. 93.773, Medicare—Hospital Insurance; and Program No. 93.774, Medicare—Supplementary Medical Insurance Program)
Dated: April 11, 2001.
Michael McMullan,
Acting Deputy Administrator, Health Care Financing Administration.

[FR Doc. 01-9589 Filed 4-17-01; 8:45 am]

BILLING CODE 4120-01-P